INTERNATIONAL TRADE COMMISSION

[Investigation No. 337-TA-1134]

Certain Sleep-Disordered Breathing Treatment Mask Systems and Components Thereof; Notice of the Commission's Determination To Review an Initial Determination Amending the Complaint and Notice of Investigation; Affirmance of the Initial Determination With Modified Reasoning

AGENCY: U.S. International Trade Commission.

ACTION: Notice.

SUMMARY: Notice is hereby given that the U.S. International Trade Commission has determined to review the presiding administrative law judge's (“ALJ”) initial determination (“ID”) (Order No. 11) amending the complaint and notice of investigation to reflect a corporate name change of complainant ResMed Ltd to ResMed Pty Ltd.

FOR FURTHER INFORMATION CONTACT: Amanda Pitcher Fisherow, Esq., Office of the General Counsel, U.S. International Trade Commission, 500 E Street SW, Washington, DC 20436, telephone (202) 205-2737. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on October 4, 2018, based on a complaint, as supplemented, filed on behalf of ResMed Corp. of San Diego, California, ResMed Inc. of San Diego, California, and ResMed Ltd. of Bella Vista, Australia (collectively, “Complainants”). 83 FR 50,121 (October 4, 2018). The complaint, as supplemented, alleges violations of Section 337 of the Tariff Act of 1930, as amended, 19 U.S.C. 1337 (“section 337”), based upon the importation into the United States, the sale for importation, and the sale within the United States after importation of certain sleep-disordered breathing treatment mask systems and components thereof by reason of infringement of certain claims of U.S. Patent No. 9,119,931; U.S. Patent No. 9,027,556; U.S. Patent No. 9,962,511; U.S. Patent No. 9,962,510; U.S. Patent No. 9,937,315. The complaint further alleges that an industry in the United States exists as required by section 337. The notice of investigation named Fisher & Paykel Healthcare Limited of Auckland, New Zealand; Fisher & Paykel Healthcare, Inc. of Irvine, California; and Fisher & Paykel Healthcare Distribution Inc. of Irvine, California as respondents. The Office of Unfair Import Investigations is not participating in this investigation.

On February 13, 2019, the Complainants filed an unopposed motion for leave to amend the complaint and notice of investigation to reflect a corporate name change of one of the complainants from ResMed Ltd to ResMed Pty Ltd. Complainants argued that good cause exists and that there would be no harm to the public interest.

On February 14, 2019, the ALJ issued the subject ID, granting complainants' unopposed motion. The ID found that good cause exists to amend the complaint and notice of investigation. The ID also noted that there was no opposition to the motion. No petitions for review were filed.

The Commission has determined to review the ID. On review, the Commission affirms the ID's finding that good cause has been shown. The Commission further finds that the amendment to the notice of investigation and complaint would not prejudice the public interest. The complaint and notice of investigation are amended to reflect the corporate name change from ResMed Ltd to ResMed Pty Ltd.

The authority for the Commission's determination is contained in section 337 of the Tariff Act of 1930, as amended (19 U.S.C. 1337), and in Part 210 of the Commission's Rules of Practice and Procedure (19 CFR part 210).

By order of the Commission.
Issued: March 5, 2019.
Katherine Hiner,
Acting Secretary to the Commission.

[FR Doc. 2019-04243 Filed 3-7-19; 8:45 am]

BILLING CODE 7020-02-P